ENVIRONMENTAL PROTECTION AGENCY

[FRL-9449-2 ]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2402.01; Willingness to Pay Survey for Section 316(b) Existing Facilities Cooling Water Intake Structures; was approved on 07/01/2011; OMB Number 2040-0283; expires on 07/31/2013; Approved with change.

EPA ICR Number 1367.09; Regulation of Fuels and Fuel Additives: Gasoline Volatility; 40 CFR 80.27; was approved on 07/27/2011; OMB Number 2060-0178; expires on 07/31/2014; Approved without change.

EPA ICR Number 1051.11; NSPS for Portland Cement Plants (40 CFR part 60, subpart F) (Renewal); was approved on 07/29/2011; OMB Number 2060-0025; expires on 07/31/2014; Approved with revisions.

EPA ICR Number 1767.06; NESHAP for Primary Aluminum Reduction Plants (40 CFR part 63, subpart LL) (Renewal); was approved on 07/29/2011; OMB Number 2060-0360; expires on 07/31/2014; Approved without change.

Short Term Approvals

EPA ICR Number 1704.14: Toxic Chemical Release Reporting, Alternate Threshold for Low Annual Reportable Amounts (Form A) was granted a short term approval to 01/31/2012 on 07/27/2011.

EPA ICR Number 1425.07: Application for Reimbursement to Local Governments for Emergency Response to Hazardous Substance Releases Under CERCLA section 123 was granted a short term approval to 10/31/2011 on 07/25/2011.

Dated: August 2, 2011.
John Moses,
Director, Collections Strategies Division.

[FR Doc. 2011-20025 Filed 8-5-11; 8:45 am]

BILLING CODE 6560-50-P